DEPARTMENT OF AGRICULTURE

Food and Nutrition Service

Agency Information Collection Activities: Proposed Collection; Comment Request, Supplemental Nutrition Assistance Program Regulations, Part 275—Quality Control

AGENCY: Food and Nutrition Service, USDA.

ACTION: Notice.

SUMMARY: As required by the Paperwork Reduction Act of 1995, this notice invites the general public and other public agencies to comment on the proposed information collection for the Supplemental Nutrition Assistance Program's Regulations, Part 275—Quality Control. Specifically, the burden associated with the collection of information for the sampling plan, arbitration process, and the good cause process. This collection is a revision of a currently approved collection, OMB No. 0584-0303.

DATES: Written comments must be submitted on or before July 9, 2010.

ADDRESSES: Comments are invited on: (a) Whether the proposed collection of information is necessary for the proper performance of the functions of the agency, including whether the information has practical utility; (b) the accuracy of the agency's estimate of the burden of the proposed collection of information, including the validity of the methodology and assumptions used; (c) ways to enhance the quality, utility, and clarity of the information to be collected; (d) ways to minimize the burden of the collection of information on those who are to respond, including the use of appropriate automated, electronic, mechanical, or other technological collection techniques or other forms of information technology.

Comments may be sent to: Tiffany Susan Wilkinson, Program Analyst, Quality Control Branch, Program Accountability and Administration Division, Food and Nutrition Service, U.S. Department of Agriculture, 3101 Park Center Drive, Room 822, Alexandria, VA 22302. You may also download an electronic version of this notice at http://www.fns.usda.gov/fsp/rules/regulations/default.htm and comment via e-mail at SNAPHQ-Web@fns.usda.gov or use the Federal e-Rulemaking Portal. Go to http://www.regulations.gov and follow the online instructions for submitting comments electronically.

All written comments will be open for public inspection at the office of the Food and Nutrition Service during regular business hours (8:30 a.m. to 5 p.m. Monday through Friday) at 3101 Park Center Drive, Room 822, Alexandria, Virginia 22302.

All responses to this notice will be included in the request for Office of Management and Budget approval. All comments will also become a matter of public record.

FOR FURTHER INFORMATION CONTACT: Requests for additional information or copies of the information collection form and instruction should be directed to Tiffany Susan Wilkinson, (703) 305-2805.

SUPPLEMENTARY INFORMATION: Title: Supplemental Nutrition Assistance Program's (SNAP) Quality Control Regulations, Part 275.

OMB Number: 0584-0303.

Expiration Date: November 30, 2010.

Type of Request: Revision of a currently approved collection.

Abstract: There are three components of the Quality Control (QC) system that are covered in this proposed information collection. They are: (1) The sampling plan; (2) the arbitration process; and (3) the good cause process. Each State is required to develop a sampling plan that demonstrates the integrity of its case selection procedures. The QC system is designed to measure each State agency's payment error rate based on a statistically valid sample of SNAP cases. A State agency's payment error rate represents the proportion of cases that were reported through a QC review as being ineligible, overissued and underissued SNAP benefits.

The QC system contains procedures for resolving differences in review findings between State agencies and FNS. This is referred to as the arbitration process. The QC system also contains procedures that provide relief for State agencies from all or a part of a QC liability when a State agency can demonstrate that a part or all of an excessive error rate was due to an unusual event that had an uncontrollable impact on the State agency's payment error rate. This is referred to as the good cause process.

The approved burden for the QC system includes the burden for the QC sampling plan, the arbitration process, and the good cause process. The annual reporting burden associated with the QC sampling plan remains at 265 hours. We estimate the annual reporting burdens associated with arbitration and good cause processes to total 936 hours and 160 hours, respectively. The increase in the proposed burden from the currently approved 840 to 936 hours for the arbitration process is due to an increase in the number of State agencies estimated to respond from 14 to 15 and to the estimated number of responses per State agency from 2.5 to 2.6. These increases are a result of State agencies more frequently disagreeing with FNS' findings. The proposed annual reporting burden for the good cause process is unchanged from the currently approved burden of 160 hours. The total reporting burden for the QC system is, therefore, 1,361 hours.

The proposed annual recordkeeping burden associated with the QC sampling plan is 1.25 hours per year. The proposed annual recordkeeping burdens associated with arbitration have increased from 0.83 to 0.92 hours and the good cause process remains at 0.0236 hour. The recordkeeping burden for the arbitration process increased from 0.83 hour to 0.92 hour due to an increase in the estimated number of affected State agencies from 14 to 15 and an increase in the estimated number of responses per State from 2.5 to 2.6. The recordkeeping burden for the good cause process remains at 0.0236 hours. The total burden for recordkeeping is 2.19 hours. As a result, the total annual burden for the QC system, as proposed by this notice, increased from 1,267 to 1,363 hours.

Quality Control System Reporting Burden Associated with the Sampling Plan, Arbitration, and Good Cause:

Reporting Burden
Affected public | Requirement | Number of respondents | Number of responses/ respondent | Total responses per year | Time per response (hrs) | Annual reporting burden (hrs)
State Agencies | Sampling Plan | 53 | 1 | 1 | 5 | 265
State Agencies | Arbitration Process | 15 | 2.6 | 39 | 24 | 936
State Agencies | Good Cause Process | 1 | 1 | 1 | 160 | 160
|  |  |  |  |  | 1,361

Quality Control System Recordkeeping Burden Associated with the Sampling Plan, Arbitration, and Good Cause:

Recordkeeping Burden
Affected public | Requirement | Number of records | Number of records/state | Time per record (hrs) | Total annual recordkeeping burden (hrs) | Total annual reporting & recordkeeping burden (hrs)
State Agencies | Sampling Plan | 53 | 1 | 0.0236 | 1.25 | 266.25
State Agencies | Arbitration Process | 15 | 2.6 | 0.0236 | 0.92 | 936.92
State Agencies | Good Cause Process | 1 | N/A | 0.0236 | 0.0236 | 160.02
|  |  |  |  | 2.1936 | 1,363.19

The Combined Quality Control System's Estimated Burden (includes the burdens associated with the Sampling Plan, Arbitration and Good Cause): (Reporting 1,361 + Recordkeeping 2 burden hours) = 1,363 hours.

Dated: April 29, 2010.
Julia Paradis,
Administrator, Food and Nutrition Service.

[FR Doc. 2010-10928 Filed 5-7-10; 8:45 am]

BILLING CODE 3410-30-P